ENVIRONMENTAL PROTECTION AGENCY

[EPA-HQ-OAR-2004-0016; FRL-9922-76-OAR]

Proposed Information Collection Request; Comment Request; Federal Operating Permit Program; Renewal

AGENCY: Environmental Protection Agency (EPA).

ACTION: Notice.

SUMMARY: The Environmental Protection Agency (EPA) is planning to submit an information collection request (ICR), “Part 71 Federal Operating Permit Program (Renewal)” (EPA ICR No. 1713.10, OMB Control No. 2060.0336) to the Office of Management and Budget (OMB) for review and approval in accordance with the Paperwork Reduction Act (PRA) (44 U.S.C. 3501 et seq.). Before doing so, the EPA is soliciting public comments on specific aspects of the proposed information collection as described below. This is a proposed extension of the ICR, which is currently approved through June 30, 2015. An agency may not conduct or sponsor and a person is not required to respond to a collection of information unless it displays a currently valid OMB control number.

DATES: Comments must be submitted on or before April 13, 2015.

ADDRESSES: Submit your comments, referencing Docket ID No. EPA-HQ-OAR-2004-0016, online using www.regulations.gov (our preferred method), by email to a-and-r-docket@epa.gov, or by mail to: EPA Docket Center, Environmental Protection Agency, WJC West, Room 3334, 1301 Constitution Ave. NW., Washington, DC 20460.

The EPA's policy is that all comments received will be included in the public docket including any personal information provided, unless the comment includes profanity, threats, information claimed to be Confidential Business Information or other information whose disclosure is restricted by statute.

FOR FURTHER INFORMATION CONTACT: Joanna W. Gmyr, Air Quality Policy Division, Office of Air Quality Planning and Standards, C504-05, U.S. Environmental Protection Agency, Research Triangle Park, NC; telephone number: (919) 541-9782; fax number: (919) 541-5509; email address: gmyr.joanna@epa.gov.

SUPPLEMENTARY INFORMATION: Supporting documents which explain in detail the information that the EPA will be collecting are available in the public docket for this ICR. The docket can be viewed online at www.regulations.gov or in person at the EPA Docket Center, William Jefferson Clinton West Building, Room 3334, 1301 Constitution Avenue NW, Washington, DC The telephone number for the Docket Center is (202) 566-1744. For additional information about the EPA's public docket, visit http://www.epa.gov/dockets.

Pursuant to section 3506(c)(2)(A) of the PRA, the EPA is soliciting comments and information to enable it to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., allowing electronic submission of responses. The EPA will consider the comments received and amend the ICR as appropriate. The final ICR package will then be submitted to OMB for review and approval. At that time, the EPA will issue another Federal Register notice to announce the submission of the ICR to OMB and the opportunity to submit additional comments to OMB.

Abstract: Title V of the Clean Air Act (Act) requires the EPA to operate a federal operating permits program in areas not subject to an approved state program. The EPA regulations setting forth the requirements for the federal (EPA) operating permit program are at 40 CFR part 71. The part 71 program is designed to be implemented primarily by the EPA in all areas where state and local agencies do not have jurisdiction, such as Indian country and offshore, beyond states' seaward boundaries. The EPA may also delegate authority to implement the part 71 program on its behalf to a state, local or tribal agency, if the agency requests delegation and makes certain showings regarding its authority and ability to implement the program. One such delegate agency for the part 71 program exists at present.

In order to receive an operating permit for a major or other source subject to the permitting program, the applicant must conduct the necessary research, perform the appropriate analyses, and prepare the permit application with documentation to demonstrate that its facility meets all applicable statutory and regulatory requirements. Specific activities and requirements are listed and described in the Supporting Statement for the part 71 ICR.

Under part 71, the permitting authority (the EPA or a delegate agency) reviews permit applications, provides for public review of proposed permits, issues permits based on consideration of all technical factors and public input, and reviews information submittals required of sources during the term of the permit. Under part 71, the EPA reviews certain actions and performs oversight of any delegate agency, consistent with the terms of a delegation agreement. Consequently, information prepared and submitted by sources is essential for sources to receive permits, and for federal and tribal permitting agencies to adequately review the permit applications and issue the permits, oversee implementation of the permits, and properly administer and manage the program. The proposed ICR is needed to authorize the preparation and submittal of this information.

Information that is collected is handled according to EPA's policies set forth in title 40, chapter 1, part 2, subpart B—Confidentiality of Business Information (see 40 CFR part 2). See also section 114(c) of the Act.

Form Numbers: The forms are 5900-01, 5900-02, 5900-03, 5900-04, 5900-05, 5900-06, 5900-79, 5900-80, 5900-81, 5900-82, 5900-83, 5900-84, 5900-85 and 5900-86.

Respondents/affected entities: Industrial plants (sources) and tribal permitting authorities.

Respondent's obligation to respond: mandatory (see 40 CFR part 71).

Estimated number of respondents: 99 (total); 98 industry sources and 1 tribal delegate permitting authority (the EPA serves as a permitting authority but is not a respondent).

Frequency of response: On occasion.

Total estimated burden: 26,132 hours (per year). Burden is defined at 5 CFR 1320.03(b).

Total estimated cost: $1,702,183 (per year). There are no annualized capital or operation & maintenance costs.

Changes in Estimates: There is a decrease of 11,497 hours in the total estimated respondent burden compared with the ICR currently approved by OMB. This decrease is due to updated estimates of the number of sources and permits subject to the part 71 program, rather than any new federal mandates. The changes in estimates are due to shrinkage from the transfer of 36 permits from the part 71 to the part 70 program and due to a previous overestimate of the number of sources that would get permits by the end of the previous ICR (which is the start of the current ICR).

Dated: January 29, 2015.
Stephen D. Page,
Director, Office of Air Quality Planning and Standards.

[FR Doc. 2015-02696 Filed 2-9-15; 8:45 am]

BILLING CODE 6560-50-P